DEPARTMENT OF THE INTERIOR

National Park Service

Notice of Intent to Repatriate a Cultural Item: The Nelson Gallery Foundation, Kansas City, MO

AGENCY: National Park Service, Interior.

ACTION: Notice.

Notice is here given in accordance with the Native American Graves Protection and Repatriation Act (NAGPRA), 25 U.S.C. 3005, of the intent to repatriate a cultural item in the possession of The Nelson Gallery Foundation, Kansas City, MO, that meets the definition of “sacred object” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The cultural item is a Prayer Stick (2002.5.1). It is carved from maple wood, measuring 6 3/4 inches by 1 1/2 inches by 1/4 inches. The central length of the object consists of an elongated, softly curved diamond shape terminating at the upper and lower ends in square configurations, surmounted at the top by a small diamond-shaped projection. Occupying the upper square of the front surface are incised images of a house and four trees. Below, occupying the length of the central panel, are three identical sets of carved symbols. All of these features conform to the classic form of other documented Kickapoo prayer sticks. Printed in ink on the reverse side are old catalogue numbers, E89A and M805A.

In 1939, the prayer stick was collected on the Potawatomi Reservation in Kansas from Martha Jackson, a Kickapoo woman who apparently married into the Potawatomi tribe, by Floyd Schultz, a prominent Clay Center, KS, businessman and civic leader, who was also an amateur archeologist and ethnologist. Research suggests that Mr. Schultz obtained the prayer stick legally and ethically from Mrs. Jackson. Sometime within the ten years following Mr. Schultz's death in 1951, the cultural item was sold by his widow to Pat Read, an Indian trader and art dealer based in Lawrence, KS, as part of a larger ethnographic collection. Mr. Read sold the piece in the mid-1960s to Mr. and Mrs. Larry Frank, Arroyo Hondo, NM. In 2002, The Nelson Gallery Foundation, which also does business as The Nelson-Atkins Museum of Art, purchased the cultural item from Mr. and Mrs. Frank.

During consultation, members of the Kennekuk Church of the Kickapoo Tribe of Indians of the Kickapoo Reservation in Kansas presented evidence that the prayer stick met NAGPRA's definition as a “sacred object” and is needed for the practice of a traditional Native American religion by present-day adherents.

Officials of The Nelson Gallery Foundation have determined that, pursuant to 25 U.S.C. 3001 (3)(C), the one cultural item described above is a specific ceremonial object needed by traditional Native American religious leaders for the practice of traditional Native American religions by their present-day adherents. Officials of The Nelson Gallery Foundation also have determined that, pursuant to 25 U.S.C. 3001 (2), there is a relationship of shared group identity that can be reasonably traced between the sacred object and the Kickapoo Tribe of Indians of the Kickapoo Reservation in Kansas.

Representatives of any other Indian tribe that believes itself to be culturally affiliated with the sacred object should contact Gaylord Torrence, Fred and Virginia Merrill Curator of American Indian Art, The Nelson-Atkins Museum of Art, 4525 Oak St., Kansas City, MO 64111, telephone (816) 751-0427, before June 23, 2008. Repatriation of the sacred object to the Kickapoo Tribe of Indians of the Kickapoo Reservation in Kansas may proceed after that date if no additional claimants come forward.

The Nelson Gallery Foundation is responsible for notifying the Kickapoo Tribe of Indians of the Kickapoo Reservation in Kansas that this notice has been published.

Dated: April 23, 2008.
Sherry Hutt,
Manager, National NAGPRA Program.

[FR Doc. E8-11576 Filed 5-22-08; 8:45 am]

BILLING CODE 4312-50-S